DEPARTMENT OF DEFENSE

Office of the Secretary

[Transmittal No. 25-0Q]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0Q.

Dated: January 21, 2026.
Stephanie J. Bost,
Alternate OSD Federal Register Liaison Officer, Department of Defense.

BILLING CODE 6001-FR-P

BILLING CODE 6001-FR-C

Transmittal No. 25-0Q

REPORT OF ENHANCEMENT OR UPGRADE OF SENSITIVITY OF TECHNOLOGY OR CAPABILITY (SEC. 36(B)(5)(C), AECA)

(i) Prospective Purchaser: Government of Poland

(ii) Sec. 36(b)(1), AECA Transmittal No.: 17-67

Date: November 14, 2017

Implementing Agency: Army

Funding Source: National Funds

(iii) Description: On November 14, 2017, Congress was notified by congressional certification transmittal number 17-67 of the possible sale, under Section 36(b)(1) of the Arms Export Control Act, of phase one of a two-phase program for an Integrated Air and Missile Defense (IAMD) Battle Command System (IBCS) enabled Patriot Configuration-3+ with Modernized Sensors and Components consisting of four (4) AN/MPQ-65 radar sets, four (4) engagement control stations, four (4) Radar Interface Units (RIU) modification kits, sixteen (16) M903 Launching stations adapted, eighteen (18) Launcher Integrated Network Kits (LINKs) (included two (2) spares), two hundred eight (208) Patriot Advanced Capabilty-3 (PAC-3) Missile Segment Enhancement (MSE) missiles, eleven (11) PAC-3 MSE test missiles, IBCS software, two (2) future operations—IBCS Engagement Operations Centers (EOCs), six (6) current operations-IBCS EOCs, six (6) engagement operations-IBCS EOCs, fifteen (15) Integrated Fire Control Network (IFCN) relays, four (4) Electrical Power Plants (EPP) III, and five (5) Multifunctional Information Distribution Systems/Low Volume Terminals (MIDS/LVTs). Also included with this request was communications equipment, tools and test equipment, range and test programs, support equipment, prime movers, generators, publications and technical documentation, training equipment, spare and repair parts, personnel training, Technical Assistance Field Team (TAFT), United States (U.S.) Government and contractor technical, engineering, and logistics support services, Systems Integration and Checkout (SICO), field office support, and other related elements of logistics and program support. The total estimated program cost was $10.5 billion. Major Defense Equipment (MDE) constituted $6.8 billion of that total.

This transmittal notifies inclusion of the following additional MDE items: seven hundred eighty-eight (788) PATRIOT Guidance Enhanced Missile-Tactical (GEM-T) missiles. There are no additional non-MDE items being reported with this notification. The estimated total value of the new items is $5.8 billion. The estimated total MDE value will increase by $5.8 billion. The non-MDE value will remain at $3.7 billion. The total case value will increase by $5.8 billion, resulting in a revised estimated total case value of $16.3 billion. MDE will constitute $12.6 billion of this total.

(iv) Significance: The proposed sale will improve Poland's capability to meet current and future threats by enabling it to field a credible force that can deter adversaries and participate in NATO operations.

(v) Justification: This proposed sale will support the foreign policy goals and national security objectives of the U.S. by improving the security of a NATO Ally that is an important force for political stability and economic progress in Europe.

(vi) Sensitivity of Technology:

The PATRIOT Guidance Enhanced Missile-Tactical (GEM-T) missile is one of the variants available to both U.S. forces and international customers. The GEM-T missile provides improved ability to defeat tactical ballistic missiles, cruise missiles, or enemy aircraft in complement to the PAC-3 missile. A modernized, digital fuze eliminates obsolescence and introduces significant performance improvements against tactical ballistic missile targets. This design increases sensitivity for improved performance against high-speed tactical ballistic missile targets.

The highest level of classification of defense articles, components, and services included in this potential sale is CONFIDENTIAL.

(vii) Date Report Delivered to Congress: May 15, 2025

[FR Doc. 2026-01361 Filed 1-23-26; 8:45 am]

BILLING CODE 6001-FR-P